DEPARTMENT OF ENERGY

Federal Energy Regulatory Commission

[Project No. 3133-033]

Brookfield White Pine Hydro, LLC, Errol Hydro Co., LLC; Notice of Reasonable Period of Time for Water Quality Certification Application

On June 3, 2022, Brookfield White Pine Hydro, LLC and Errol Hydro Co., LLC submitted to the Federal Energy Regulatory Commission (Commission) evidence of its application for a Clean Water Act section 401(a)(1) water quality certification filed with New Hampshire Department of Environmental Services, in conjunction with the above captioned project. Pursuant to section 401 of the Clean Water Act ¹ and section [4.34(b)(5), 5.23(b), 153.4, or 157.22] of the Commission's regulations,² a state certifying agency is deemed to have waived its certifying authority if it fails or refuses to act on a certification request within a reasonable period of time, which is one year after the date the certification request was received. Accordingly, we hereby notify the New Hampshire Department of Environmental Services of the following:

¹ 33 U.S.C. 1341(a)(1).

² 18 CFR [4.34(b)(5)/5.23(b)/153.4/157.22].

Date that New Hampshire Department of Environmental Services Received the Certification Request: June 1, 2022.

If New Hampshire Department of Environmental Services fails or refuses to act on the water quality certification request on or before June 1, 2023, then the agency certifying authority is deemed waived pursuant to section 401(a)(1) of the Clean Water Act, 33 U.S.C. 1341(a)(1).

Dated: June 8, 2022.
Kimberly D. Bose,
Secretary.

[FR Doc. 2022-12767 Filed 6-13-22; 8:45 am]

BILLING CODE 6717-01-P